DEPARTMENT OF HEALTH AND HUMAN SERVICES

Office of the National Coordinator for Health Information Technology; HIT Policy Committee Meeting

ACTION: Announcement of meeting.

SUMMARY: This notice announces the first meeting of the HIT Policy Committee in accordance with the Federal Advisory Committee Act (Pub. L. No. 92-463, 5 U.S.C., App.).

DATES: May 11, 2009, from 8:30 a.m. to 11:30 a.m. [Eastern]

ADDRESSES: Hubert H. Humphrey Building (200 Independence Avenue, SW., Washington, DC 20201), Conference Room 505A. Please bring photo ID for entry to a Federal building.

FOR FURTHER INFORMATION CONTACT: http://healthit.hhs.gov.

SUPPLEMENTARY INFORMATION: This is the inaugural meeting of the HIT Policy Committee. Members will be introduced. Space is limited, seating on a first-come, first-served basis.

The meeting will be available via webcast. Because of initial delays in processing members' nominations, the 15 day deadline for notification was not met.

Judith Sparrow,
Office of Programs and Coordination, Office of the National Coordinator for Health Information Technology.

[FR Doc. E9-10643 Filed 5-4-09; 4:15 pm]

BILLING CODE 4150-45-P